FEDERAL MARITIME COMMISSION

Ocean Transportation Intermediary License Reissuances

Notice is hereby given that the following Ocean Transportation Intermediary licenses have been reissued by the Federal Maritime Commission pursuant to section 19 of the Shipping Act of 1984, (46 U.S.C. app. 1718) and the regulations of the Commission pertaining to the licensing of Ocean Transportation Intermediaries, 46 CFR part 515.

License No. | Name/address | Date reissued
001728NF | I.M.S., Inc. dba International Moving Service 4412-4414 Wheeler Avenue Alexandria, VA 22304 | February 11, 2006.
002827F | Raymond Express Corporation dba Raymond Express International 320 Harbor Way So. San Francisco, CA 94080 | January 16, 2006.
003636F | World Connections, Inc. 8380 Isis Avenue Los Angeles, CA 90045 | January 5, 2006.

Peter J. King,
Deputy Director, Bureau of Certification and Licensing.

[FR Doc. E6-4581 Filed 3-28-06; 8:45 am]

BILLING CODE 6730-01-P